DEPARTMENT OF DEFENSE

Department of the Air Force

[Docket ID: USAF-2008-0046]

Privacy Act of 1974; System of Records

AGENCY: Department of the Air Force, DoD.

ACTION: Notice to Alter a System of Records.

SUMMARY: The Department of the Air Force is proposing to alter a system of records notice in its existing inventory of record systems subject to the Privacy Act of 1974 (5 U.S.C. 552a), as amended.

DATES: The proposed action will be effective on January 12, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974 (5 U.S.C. 552a), as amended, have been published in the Federal Register and are available from the address above.

The proposed system report, as required by 5 U.S.C. 552a(r) of the Privacy Act of 1974, as amended, was submitted on December 4, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 8, 2008.
Morgan E. Frazier,
Alternate OSD Federal Register Liaison Officer, Department of Defense.

F051 AFJA A

System name:

Freedom of Information Act Appeals (June 11, 1997, 62 FR 31793).

Changes:

* * * * *

System location:

Delete entry and replace with “The Judge Advocate General, Headquarters United States Air Force, 1420 Air Force Pentagon, Washington, DC 20330-1420.”

Categories of individuals covered by the system:

Delete entry and replace with “Individuals who have appealed Freedom of Information Act (FOIA) denials to the Secretary of the Air Force under The Freedom of Information Act and applicable Air Force Instructions.”

Categories of records in the system:

Delete entry and replace with “Individual's name, Social Security Number (SSN) and grade; letters; memoranda; legal opinions; reports; e-mail messages; forms; and other documents necessary to process Freedom of Information Act (FOIA) appeals.”

Authority for maintenance of the system:

Delete entry and replace with “10 U.S.C. 8013, Secretary of the Air Force; 10 U.S.C. 8037, Judge Advocate General, Deputy Judge Advocate General: Appointment and duties; 5 U.S.C. 552, The Freedom of Information Act, as amended; DoD Regulation 5400.7-R/Air Force Supplement and E.O. 9397 (SSN).”

Purpose(s):

Delete entry and replace with “To evaluate appeals to the Secretary of the Air Force from denials of requests for documents sought pursuant to the FOIA; used by the Air Force Audit Agency to conduct audits; used by other DoD and Air Force agencies to provide guidelines and precedents and in litigation involving the United States.”

Routine uses of records maintained in the system, including categories of users and the purposes of such uses:

Delete entry “Records from this system of records may be disclosed to the Department of Justice for litigation.”

* * * * *

Storage:

Delete entry and replace with “Maintained in hard copy file folders and on electronic storage media.”

Retrievability:

Delete entry and replace with “Retrieved by name or Social Security Number (SSN).”

Safeguards:

Delete entry and replace with “Records are accessed by authorized personnel as necessary to accomplish their official duties. Paper records are stored in locked containers and/or secure facilities. Computer records have access controls and are password protected and encrypted.”

Retention and disposal:

Delete entry and replace with “Retained in office files for two years, then transferred to the General Services Administration where they will be disposed of after four additional years. Paper records are disposed of by tearing into pieces, shredding, pulping, macerating, or burning. Computer records are destroyed by deleting, erasing, degaussing, or by overwriting.”

System manager(s) and address:

Delete entry and replace with “The Judge Advocate General, Headquarters United States Air Force, 1420 Air Force Pentagon, Washington, DC 20330-1420, or designee.”

Notification procedure:

Delete entry and replace with “Individuals seeking to determine whether information about themselves is contained in this system should address written inquiries to The Judge Advocate General, Headquarters United States Air Force, 1420 Air Force Pentagon, Washington, DC 20330-1420.

Requesters must submit their name, grade, and personal identification. Individuals may be required to provide the name of the installation where documents are suspected to be along with the general dates of the documents, if known.”

Record access procedures:

Delete entry and replace with “Individuals seeking access to information about themselves contained in this system should address written inquiries to The Judge Advocate General, Headquarters United States Air Force, 1420 Air Force Pentagon, Washington, DC 20330-1420.

Requesters must submit their name, grade, and personal identification. Individuals may be required to provide the name of the installation where documents are suspected to be along with the general dates of the documents, if known.”

Contesting record procedures:

Delete entry and replace with “The Air Force rules for accessing records, and for contesting contents and appealing initial agency determinations are published in Air Force Instruction 33-332; 32 CFR part 806b; or may be obtained from the system manager.”

Record source categories:

Delete entry and replace with “From the requestors for their appeal and all Air Force records compiled to respond and process initial FOIA request.”

Exemptions claimed for this system:

Delete entry and replace with “During the course of a FOIA action, exempt materials from `other' systems of records may in turn become part of the case records in this system. To the extent that copies of exempt records from those `other' systems of records are entered into this FOIA case record, the Department of the Air Force hereby claims the same exemptions for the records from those `other' systems that are entered into this system, as claimed for the original primary systems of records which they are a part.

An exemption rule for this system has been promulgated in accordance with requirements of 5 U.S.C. 553(b)(1), (2), and (3), (c) and (e) and published in 32 CFR part 505. For additional information contact the system manager.”

F051 AFJA A

System name:

Freedom of Information Act Appeal Records.

System location:

The Judge Advocate General, Headquarters United States Air Force, 1420 Air Force Pentagon, Washington, DC 20330-1420.

Categories of individuals covered by the system:

Individuals who have appealed Freedom of Information Act (FOIA) denials to the Secretary of the Air Force under 5 U.S.C. 552 and applicable Air Force Instructions.

Categories of records in the system:

Individual's name, Social Security Number (SSN) and grade; letters; memoranda; legal opinions; reports; e-mail messages; forms; and other documents necessary to process Freedom of Information Act (FOIA) appeals.

Authority for maintenance of the system:

10 U.S.C. 8013, Secretary of the Air Force; 10 U.S.C. 8037, Judge Advocate General, Deputy Judge Advocate General: Appointment and duties; 5 U.S.C. 552, The Freedom of Information Act, as amended; DoD Regulation 5400.7-R/Air Force Supplement and E.O. 9397 (SSN).

Purpose(s):

To evaluate appeals to the Secretary of the Air Force from denials of requests for documents sought pursuant to the Freedom of Information Act (FOIA); used by the Air Force Audit Agency to conduct audits; used by other DoD and Air Force agencies to provide guidelines and precedents; and in litigation involving the United States.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system:

Storage:

Maintained in hard copy file folders and on electronic storage media.

Retrievability:

Retrieved by name or Social Security Number (SSN).

Safeguards:

Records are accessed by authorized personnel as necessary to accomplish their official duties. Paper records are stored in locked containers and/or secure facilities. Computer records have access controls and are password protected and encrypted.

Retention and disposal:

Retained in office files for two years, then transferred to the General Services Administration where they will be disposed of after four additional years. Paper records are disposed of by tearing into pieces, shredding, pulping, macerating, or burning. Computer records are destroyed by deleting, erasing, degaussing, or by overwriting.

System manager(s) and address:

The Judge Advocate General, Headquarters United States Air Force, 1420 Air Force Pentagon, Washington, DC 20330-1420, or designee.

Notification procedure:

Individuals seeking to determine whether information about themselves is contained in this system should address written inquiries to The Judge Advocate General, Headquarters United States Air Force, 1420 Air Force Pentagon, Washington, DC 20330-1420.

Requesters must submit their name, grade, and personal identification. Individuals may be required to provide the name of the installation where documents are suspected to be along with the general dates of the documents, if known.

Record access procedures:

Individuals seeking access to information about themselves contained in this system should address written inquiries to The Judge Advocate General, Headquarters United States Air Force, 1420 Air Force Pentagon, Washington, DC 20330-1420.

Requesters must submit their name, grade, and personal identification. Individuals may be required to provide the name of the installation where documents are suspected to be along with the general dates of the documents, if known.

Contesting record procedures:

The Air Force rules for accessing records, and for contesting contents and appealing initial agency determinations are published in Air Force Instruction 33-332; 32 CFR part 806b; or may be obtained from the system manager.

Record source categories:

From the requestors for their appeal and all Air Force records compiled to respond and process initial FOIA request.

Exemptions claimed for this system:

During the course of a FOIA action, exempt materials from `other' systems of records may in turn become part of the case records in this system. To the extent that copies of exempt records from those `other' systems of records are entered into this FOIA case record, the Department of the Air Force hereby claims the same exemptions for the records from those `other' systems that are entered into this system, as claimed for the original primary systems of records which they are a part.

An exemption rule for this system has been promulgated in accordance with requirements of 5 U.S.C. 553(b)(1), (2), and (3), (c) and (e) and published in 32 CFR part 806b. For additional information contact the system manager.

[FR Doc. E8-29408 Filed 12-11-08; 8:45 am]

BILLING CODE 5001-06-P